DEPARTMENT OF AGRICULTURE

Forest Service

Recreation Resource Advisory Committees

AGENCY: Forest Service, USDA.

ACTION: Notice of intent to renew the Recreation Resource Advisory Committees.

SUMMARY: The Secretary of Agriculture intends to renew five Forest Service Recreation Resource Advisory Committees (Recreation RACs) pursuant to Section 4 of the Federal Lands Recreation Enhancement Act passed into law as part of the 2005 Consolidated Appropriations Act (Pub. L. 108-447) on December 8, 2004. The Recreation RACs operate in the Pacific Northwest, Pacific Southwest, Eastern, and Southern Regions of the Forest Service and the State of Colorado, and provide recreation fee recommendations to both the Forest Service and the Bureau of Land Management (BLM) as appropriate. As required by the Federal Advisory Committee Act, charters for Federal advisory committees must be renewed every two years.

DATES: The current charter for the Recreation RACs expires September 28, 2008.

FOR FURTHER INFORMATION CONTACT: Julie Cox, National Recreation RAC Coordinator, USDA Forest Service, Pacific Northwest Region, 333 SW. 1st Avenue, Portland, OR 97208, (503) 808-2984.

Individuals who use telecommunication devices for the deaf (TDD) may call the Federal Information Relay Service (FIRS) at 1-800-877-8339 between 8 a.m. and 8 p.m., Eastern Standard Time, Monday through Friday.

SUPPLEMENTARY INFORMATION:

Background

The Federal Lands Recreation Enhancement Act (REA), signed in December 2004, directs the Secretary of Agriculture, the Secretary of the Interior, or both to establish Recreation RACs, or use existing advisory committees to perform the duties of Recreation RACs, in each State or region for Federal recreation lands and waters managed by the Forest Service or the BLM. These committees make recreation fee program recommendations on implementing or eliminating standard amenity fees; expanded amenity fees; and noncommercial, individual special recreation permit fees; expanding or limiting the recreation fee program; and fee-level changes.

The REA grants flexibility to Recreation RACs by stating that the Secretaries:

• May have as many additional Recreation RACs in a State or region as the Secretaries consider necessary;

• Shall not establish a Recreation RAC in a State if the Secretaries determine, in consultation with the Governor of the State, that sufficient interest does not exist to ensure that participation on the committee is balanced in terms of the points of view represented and the functions to be performed; or

• May use a resource advisory committee established pursuant to another provision of law and in accordance with that law.

The Forest Service and BLM elected to jointly use existing BLM RACs in the States of Arizona, Idaho, the Dakotas, Montana, Nevada, New Mexico, and Utah. The Forest Service also chartered new Recreation RACs for the Forest Service Pacific Northwest, Pacific Southwest, Eastern, and Southern Regions, and for the State of Colorado. The Forest Service is using an existing advisory board for the Black Hills National Forest in South Dakota. In addition, the Governors of three States—Alaska, Nebraska, and Wyoming—requested that their states be exempt from the Recreation RAC requirement, and the Secretary concurred with the exemptions.

Members were appointed to the Forest Service established Recreation RACs in February 2007 for three regions (Pacific Northwest, Eastern, and Southern), and July 2007 for one region (Pacific Southwest) and one State (State of Colorado).

The Secretaries have signed an Interagency Agreement that authorizes the Forest Service to using existing BLM RACs and the BLM to use Forest Service established Recreation RACs for the purposes stated in the REA.

Dated: September 2, 2008.
Boyd K. Rutherford,
Assistant Secretary for Administration.

[FR Doc. E8-20762 Filed 9-5-08; 8:45 am]

BILLING CODE 3410-11-P